DEPARTMENT OF THE INTERIOR

Bureau of Land Management

[CO-935; COC-23841]

Public Land Order No. 7442; Extension of Public Land Order No. 5718; Colorado

AGENCY: Bureau of Land Management, Interior.

ACTION: Public Land Order.

SUMMARY: This order extends Public Land Order No. 5718, which withdrew approximately 1,365 acres of National Forest System land from mining, for an additional 20-year period. This extension is necessary to continue the protection of the Eisenhower/Johnson Memorial Tunnel on Interstate Highway 70. The land has been and remains open to Forest management and to mineral leasing.

EFFECTIVE DATE: April 14, 2000.

FOR FURTHER INFORMATION CONTACT: Doris E. Chelius, BLM Colorado State Office, 2850 Youngfield Street, Lakewood, Colorado 80215-7093, 303-239-3706.

By virtue of the authority vested in the Secretary of the Interior by Section 204 of the Federal Land Policy and Management Act of 1976, 43 U.S.C. 1714(1994), it is ordered as follows:

1. Public Land Order No. 5718, which withdrew 1,365 acres, more or less, of land in the White River National Forest from location and entry under the United States mining laws for the protection of the Eisenhower/Johnson Memorial Tunnel on Interstate Highway 70, is hereby extended for an additional 20-year period.

2. This withdrawal will expire 20 years from the effective date of this order, unless as a result of a review conducted before the expiration date pursuant to Section 204(f) of the Federal Land Policy and Management Act of 1976, 43 U.S.C. 1714(f) (1994), the Secretary determines that the withdrawal shall be extended.

Dated: March 21, 2000.
Sylvia V. Baca,
Assistant Secretary of the Interior.

[FR Doc. 00-8289 Filed 4-4-00; 8:45 am]

BILLING CODE 3410-11-P